ENVIRONMENTAL PROTECTION AGENCY

[EPA-HQ-OPPT-2016-0025; FRL-9949-63]

Certain New Chemicals; Receipt and Status Information for June 2016

AGENCY: Environmental Protection Agency (EPA).

ACTION: Notice.

SUMMARY: EPA is required under the Toxic Substances Control Act (TSCA) to publish in the Federal Register a notice of receipt of a Premanufacture notice (PMN); an application for a test marketing exemption (TME), both pending and/or expired; and a periodic status report on any new chemicals under EPA review and the receipt of notices of commencement (NOC) to manufacture those chemicals. This document covers the period from June 1, 2016 to June 30, 2016.

DATES: Comments identified by the specific case number provided in this document, must be received on or before August 29, 2016.

ADDRESSES: Submit your comments, identified by docket identification (ID) number EPA-HQ-OPPT-2016-2016-0025, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, IMD 7407M, Office of Pollution Prevention and Toxics, Environmental Protection Agency, 1200 Pennsylvania Ave. NW., Washington, DC 20460-0001; telephone number: 202-564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the agency taking?

This document provides receipt and status reports, which cover the period from June 1, 2016 to June 30, 2016, and consists of the PMNs and TMEs both pending and/or expired, and the NOCs to manufacture a new chemical that the Agency has received under TSCA section 5 during this time period.

III. What is the agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 60 PMNs received by EPA during this period, Table 1 provides the following information (to the extent that such information is not claimed as CBI): The EPA case number assigned to the PMN; The date the PMN was received by EPA; the projected end date for EPA's review of the PMN; the submitting manufacturer/importer; the potential uses identified by the manufacturer/importer in the PMN; and the chemical identity.

Table 1—PMNs Received From June 1, 2016 to June 30, 2016
Case No. | Received date | Projected notice end date | Manufacturer importer | Use | Chemical
P-16-0273 | 6/13/2016 | 9/11/2016 | CBI | (G) Ingredient in metal working fluids | (G) Alkyl heteromonocycle, polymer with heteromonocycle, carboxyalkyl alkyl ether.
P-16-0345 | 6/13/2016 | 9/11/2016 | CBI | (G) Processing aid | (G) Acrylamide, polymer with methacrylic acid derivatives.
P-16-0377 | 6/2/2016 | 8/31/2016 | CBI | (G) Film component | (G) Polyester polyol.
P-16-0380 | 6/2/2016 | 8/31/2016 | CBI | (G) Component in electrocoat resin | (G) Formic acid, compounds (compds.) with hydrolyzed bisphenol a-epichlorohydrin-polyethylene glycol ether with bisphenol a (2:1) polymer-N1-(1,3-dimethylbutylidene)-N2-[2-[(1,3-dimethylbutylidene)amino]- ethyl]-1,2-ethanediamine-dialdehyde-2-(methylamino)ethanol reaction products acetates (salts).
P-16-0380 | 6/2/2016 | 8/31/2016 | CBI | (S) Anti-Crater additive for automotive electrocoat resin | (G) Formic acid, compds. with hydrolyzed bisphenol a-epichlorohydrin-polyethylene glycol ether with bisphenol a (2:1) polymer-N1-(1,3-dimethylbutylidene)-N2-[2-[(1, 3-dimethylbutylidene)amino]ethyl]-1,2-ethanediamine-dialdehyde-2-(methylamino)ethanol reaction products acetates (salts).
P-16-0381 | 6/2/2016 | 8/31/2016 | CBI | (G) Component in electrocoat resin | (G) Propanoic acid, 2-hydroxy-, compds. with hydrolyzed bisphenol a-epichlorohydrin-polyethylene glycol ether with bisphenol a (2:1) polymer-N1-(1,3-dimethylbutylidene)-N2-[2-[(1,3-dimethylbutylidene)amino]- ethyl]-1,2-ethanediamine-dialdehyde-2-(methylamino)ethanol reaction products formates (salts).
P-16-0381 | 6/2/2016 | 8/31/2016 | CBI | (S) Anti-Crater additive for automotive electrocoat resin | (G) Propanoic acid, 2-hydroxy-, compds. with hydrolyzed bisphenol a-epichlorohydrin-polyethylene glycol ether with bisphenol a (2:1) polymer-N1-(1,3-dimethylbutylidene)-N2-[2-[(1, 3-dimethylbutylidene)amino]- ethyl]-1,2-ethanediamine-dialdehyde-2-(methylamino)ethanol reaction products formates (salts).
P-16-0382 | 6/2/2016 | 8/31/2016 | CBI | (G) Component in electrocoat resin | (G) Formic acid, compds. with hydrolyzed bisphenol a-epichlorohydrin-polyethylene glycol ether with bisphenol a (2:1) polymer-N1-(1,3-dimethylbutylidene)-N2-[2-[(1, 3-dimethylbutylidene)amino]ethyl]-1,2-ethanediamine-dialdehyde-2-(methylamino)ethanol reaction products sulfamates(salts).
P-16-0382 | 6/2/2016 | 8/31/2016 | CBI | (S) Anti-Crater additive for automotive electrocoat resin | (G) Formic acid, compds. with hydrolyzed bisphenol a-epichlorohydrin-polyethylene glycol ether with bisphenol a (2:1) polymer-N1-(1,3-dimethylbutylidene)-N2-[2-[(1, 3-dimethylbutylidene)amino]ethyl]-1,2-ethanediamine-dialdehyde-2-(methylamino)ethanol reaction products sulfamates (salts).
P-16-0383 | 6/2/2016 | 8/31/2016 | CBI | (S) Anti-Crater additive for automotive electrocoat resin | (G) Formic acid, compds. with hydrolyzed bisphenol a-epichlorohydrin-polyethylene glycol ether with bisphenol a (2:1) polymer-N1-(1,3-dimethylbutylidene)-N2-[2-[(1, 3-dimethylbutylidene)amino]ethyl]-1,2-ethanediamine-dialdehyde-2-(methylamino)ethanol reaction products acetates (salts).
P-16-0384 | 6/2/2016 | 8/31/2016 | CBI | (G) Component of electrocoat resin | (G) Propanoic acid, 2-hydroxy-, compds. with hydrolyzed bisphenol a-epichlorohydrin-polyethylene glycol ether with bisphenol a (2:1) polymer-N1-(1,3-dimethylbutylidene)-N2-[2-[(1,3-dimethylbutylidene)amino]- ethyl]-1,2-ethanediamine-dialdehyde-2-(methylamino)ethanol reaction products formates (salts).
P-16-0384 | 6/2/2016 | 8/31/2016 | CBI | (S) Anti-Crater additive for automotive electrocoat resin | (G) Propanoic acid, 2-hydroxy-, compds. with hydrolyzed bisphenol a-epichlorohydrin-polyethylene glycol ether with bisphenol a (2:1) polymer-N1-(1,3-dimethylbutylidene)-N2-[2-[(1,3-dimethylbutylidene)amino]- ethyl]-1,2-ethanediamine-dialdehyde-2-(methylamino)ethanol reaction products formates (salts).
P-16-0385 | 6/2/2016 | 8/31/2016 | CBI | (G) Component in electrocoat resin | (G) Formic acid, compds. with hydrolyzed bisphenol a-epichlorohydrin-polyethylene glycol ether with bisphenol a (2:1) polymer-N1-(1,3-dimethylbutylidene)-N2-[2-[(1, 3-dimethylbutylidene)amino]ethyl]-1,2-ethanediamine-dialdehyde-2-(methylamino)ethanol reaction products sulfamates(salts).
P-16-0385 | 6/2/2016 | 8/31/2016 | CBI | (S) Anti-Crater additive for automotive electrocoat resin | (G) Formic acid, compds. with hydrolyzed bisphenol a-epichlorohydrin-polyethylene glycol ether with bisphenol a (2:1) polymer-N1-(1,3-dimethylbutylidene)-N2-[2-[(1, 3-dimethylbutylidene)amino]ethyl]-1,2-ethanediamine-dialdehyde-2-(methylamino)ethanol reaction products sulfamates(salts).
P-16-0394 | 6/7/2016 | 9/5/2016 | CBI | (G) Adhesive | (G) Benzenedicarboxylic acid, polymer with decanedioic acid and dodecanedioic acid, ethanediol, hexanedioic acid, hexanediol, alpha-hydro-omega-hydroxypoly[oxy(methyl-1,2-ethanediyl)], isobenzofurandione,1,1′-methylenebis[4-isocyanatobenzene], phenol and trimethylbicyclo hept-2-ene.
P-16-0395 | 6/2/2016 | 8/31/2016 | CBI | (S) Polymeric intermediate for the production of acrylic polymers for industrial coatings | (G) Methacrylic acid, polymer with alkyl methacrylates and substituted acrylamide, ammonium salt.
P-16-0396 | 6/2/2016 | 8/31/2016 | CBI | (G) Specialty chemical for processing additive | (G) Alkylaminium hydroxide.
P-16-0398 | 6/6/2016 | 9/4/2016 | CBI | (G) Corrosion inhibitor | (G) Di-ammonium di-carboxylate.
P-16-0399 | 6/17/2016 | 9/15/2016 | Tryeco Llc | (S) Agricultural soil amendment for filed crops seed coating and turf | (S) Starch, polymer with 2-propenoic acid, potassium salt. oxidized.
P-16-0400 | 6/6/2016 | 9/4/2016 | Shell Chemical LP | (S) Use in cured coatings | (S) Alkanes, C11-16-branched and linear.
P-16-0400 | 6/6/2016 | 9/4/2016 | Shell Chemical LP | (S) Agrochemical | (S) Alkanes, C11-16-branched and linear.
P-16-0400 | 6/6/2016 | 9/4/2016 | Shell Chemical LP | (S) Metalworking fluid use | (S) Alkanes, C11-16-branched and linear.
P-16-0400 | 6/6/2016 | 9/4/2016 | Shell Chemical LP | (S) Use in cleaning fluids | (S) Alkanes, C11-16-branched and linear.
P-16-0400 | 6/6/2016 | 9/4/2016 | Shell Chemical LP | (S) Chemical intermediate | (S) Alkanes, C11-16-branched and linear.
P-16-0402 | 6/7/2016 | 9/5/2016 | CBI | (S) Flotation additive for use in mineral processing | (G) Propanediamine, [(isoalkyloxy)propyl] derivs., salts.
P-16-0403 | 6/15/2016 | 9/13/2016 | CBI | (G) Open non dispersive use | (G) Heteropolycyclic carboxylic acid, polymer with 2-ethyl-2-(hydroxymethyl)-1,3-propanediol and 4-substitutedbenzene, substituted carbomonocycle- and alkyl-substituted carbomonocycle-blocked.
P-16-0404 | 6/8/2016 | 9/6/2016 | CBI | (G) A colorant for dyeing various synthetic fibers and fabrics open, non-dispersive use | (G) Alkyl ester, 2-({4-[2-(trisubstituted phenyl)azo]-5-acetamido-2-substitutedphenyl}(substituted alkoxy)amino).
P-16-0406 | 6/9/2016 | 9/7/2016 | CBI | (G) Coating | (G) Functionalized polyimide.
P-16-0407 | 6/9/2016 | 9/7/2016 | CBI | (G) Coating | (G) Functionalized polyamide.
P-16-0408 | 6/9/2016 | 9/7/2016 | CBI | (G) A Colorant for dyeing various synthetic fibers and fabrics open non-dispersive use | (G) 3-pyridinecarbonitrile, 1,2-dihydro-trisubstituted-5-[2-(disubstituted phenyl)azo]-2-oxo.
P-16-0409 | 6/15/2016 | 9/13/2016 | CBI | (G) Chemical intermediate for the synthesis of another substance | (G) Alkylphenol.
P-16-0410 | 6/14/2016 | 9/12/2016 | CBI | (G) Automotive engine fluid additive | (G) Silicophosphonate—sodium silicate.
P-16-0411 | 6/13/2016 | 9/11/2016 | CBI | (G) Crosslinking agent | (G) Substituted polyalkylene polycarbomonocyclic ester, polymer with polyalkylene glycol, alkoxyalkanol blocked.
P-16-0412 | 6/13/2016 | 9/11/2016 | Cardolite Corporation | (G) Epoxy coating | (G) Cashew, nutshell liquid, polymer with amine and formaldehyde.
P-16-0413 | 6/13/2016 | 9/11/2016 | Siltech Llc | (S) Anti-fingerprint material for a metal coating application | (S) Siloxanes and silicones, di-me, 3-hydroxypropyl me, me 3,3,4,4,5,5,6,6,6-nonafluorohexyl.
P-16-0415 | 6/17/2016 | 9/15/2016 | CBI | (G) Coating for oil and gas industry | (G) Polyurethane.
P-16-0417 | 6/16/2016 | 9/14/2016 | CBI | (G) Adhesive for open, non-descriptive use | (G) Isocyanate terminated polyurethane resin.
P-16-0418 | 6/15/2016 | 9/13/2016 | CBI | (G) A colorant for dyeing various synthetic fibers and fabrics open, non-dispersive use | (G) 6-(disubstituted-phenyl azo)-4,7-disubstituted-quinolinepropanoic acid, alkyl ester.
P-16-0419 | 6/15/2016 | 9/13/2016 | CBI | (G) Use as intermediate | (G) N-alkyl-dialkylpiperidine.
P-16-0420 | 6/21/2016 | 9/19/2016 | CBI | (S) The notified substance will be used as a fragrance ingredient being blended (mixed) with other fragrance ingredients to make fragrance oils that will be sold to industrial and commercial customers for their incorporation into soaps, detergents, cleaners and other similar household and consumer products | (G) Dimethyl cyclohexenyl propanol.
P-16-0421 | 6/16/2016 | 9/14/2016 | Guardian Industries Corp | (S) Additive to facilitate melting of sand during manufacture of glass | (S) Flue dust, glass manufacturing desulfurizationdefinition: The dust produced from the flue gas exhaust cleaning of a glass manufacturing process using carbonate containing substances. it consists primarily of na2so4, na2co3, and na4(so4)(co3).
P-16-0422 | 6/21/2016 | 9/19/2016 | CBI | (G) Additive for polymers | (S) 1,2-cyclohexanedicarboxylic acid, 1-(phenylmethyl) ester, ester with 2,2,4-trimethyl-1,3-pentanediol mono(2-methylpropanoate).
P-16-0423 | 6/17/2016 | 9/15/2016 | CBI | (G) Intermediate | (G) Tetraalkylpiperidinium halide.
P-16-0424 | 6/17/2016 | 9/15/2016 | CBI | (G) Directing agent | (G) Tetraalkylpiperidinium hydroxide.
P-16-0425 | 6/22/2016 | 9/20/2016 | CBI | (G) A chemical reactant used in manufacturing a polymer | (G) Amino-silane.
P-16-0428 | 6/20/2016 | 9/18/2016 | Cardolite Corporation | (S) Industrial | (G) Phenol, formaldehyde and amine.
P-16-0429 | 6/20/2016 | 9/18/2016 | CBI | (G) Universal tint paste resin having high solids | (G) Endcapped polysiloxane.
P-16-0430 | 6/21/2016 | 9/19/2016 | CBI | (G) Filler | (S) Pentanedioic acid, 2-methyl-.
P-16-0432 | 6/22/2016 | 9/20/2016 | CBI | (S) Additive for flotation products used in ore processing | (G) Fatty acid amidoamine acetates.
P-16-0433 | 6/22/2016 | 9/20/2016 | CBI | (S) Additive for flotation products used in ore processing | (G) Fatty acid amidoamine acetates.
P-16-0434 | 6/22/2016 | 9/20/2016 | CBI | (S) Additive for flotation products used in ore processing | (G) Fatty acid amidoamine acetates.
P-16-0435 | 6/22/2016 | 9/20/2016 | CBI | (S) Additive for flotation products used in ore processing | (G) Fatty acid amidoamine acetates.
P-16-0436 | 6/22/2016 | 9/20/2016 | CBI | (S) Additive for flotation products used in ore processing | (G) Fatty acid amidoamine acetates.
P-16-0437 | 6/22/2016 | 9/20/2016 | CBI | (S) Additive for flotation products used in ore processing | (G) Fatty acid amidoamine acetates.
P-16-0441 | 6/23/2016 | 9/21/2016 | CBI | (G) Oilfield additive | (G) Formaldehyde, reaction products with amine-alkylamine reaction products ether amine derivs. residues.
P-16-0446 | 6/24/2016 | 9/22/2016 | Allnex USA Inc. | (S) Resin in architectural primer coatings | (G) Fatty acids, reaction products with alkylamine, polymers with substituted carbomonocycle, substituted alkylamines, heteromonocycle and substituted alkanoate, lactates (salts).
P-16-0447 | 6/24/2016 | 9/22/2016 | CBI | (G) Additive for coatings | (G) Alkyl alkenoate, dialkyl alkanediyl, polymer with alkyl alkenoate, substituted carbomonocycle, alkyl alkenoate and heteromonocycle alkyl alkenoate, diazene bis alkyl heteromonocycle initiated.
P-16-0448 | 6/27/2016 | 9/25/2016 | CBI | (G) Oil additive | (G) Metal salts branched alkyl substituted carbomonocycle with substituted alkyl carbomonocycle complexes.
P-16-0449 | 6/27/2016 | 9/25/2016 | CBI | (S) Use per FFDCA cosmetics | (S) 2,7-decadienal, (2e,7z)-.
P-16-0449 | 6/27/2016 | 9/25/2016 | CBI | (S) Use per TSCA fragrance uses scented papers detergents candles etc | (S) 2,7-decadienal, (2e,7z)-.
P-16-0453 | 6/29/2016 | 9/27/2016 | Miwon North America, Inc. | (S) Resin for industrial coating | (G) Polyester acrylate.
P-16-0454 | 6/30/2016 | 9/28/2016 | CBI | (G) Material for highly dispersive use in consumer products | (G) Trisubstituted alkenol.

For the 1 TME received by EPA during this period, Table 2 provides the following information (to the extent that such information is not claimed as CBI): The EPA case number assigned to the TME, the date the TME was received by EPA, the projected end date for EPA's review of the TME, the submitting manufacturer/importer, the potential uses identified by the manufacturer/importer in the TME, and the chemical identity.

Table 2—TME Received From June 1, 2016 to June 30, 2016
Case No. | Received date | Projected notice end date | Manufacter importer | Use | Chemical
T-16-0017 | 5/25/2016 | 7/9/2016 | CBI | (G) Wax | (G) Modified vegetable oil.

For the 23 NOCs received by EPA during this period, Table 3 provides the following information (to the extent that such information is not claimed as CBI): The EPA case number assigned to the NOC; the date the NOC was received by EPA; the projected date of commencement provided by the submitter in the NOC; and the chemical identity.

Table 3—NOCs Received From June 1, 2016 to June 30, 2016
Case No. | Received date | Commencement date | Chemical
J-14-0001 | 6/7/2016 | 3/13/2014 | (G) Saccharomyces cerevisiae, modified.
P-01-0309 | 6/17/2016 | 6/1/2016 | (S) Undecanedioic acid, compd. with 2-(2-aminoethoxy)ethanol.
P-12-0121 | 6/23/2016 | 5/25/2016 | (S) Acetic acid, 1, 1′-anhydride, reaction products with borax and hydrogen peroxide.
P-13-0930 | 6/13/2016 | 5/24/2016 | (G) Substituted phenol.
P-14-0478 | 6/23/2016 | 4/8/2016 | (S) Carbonic acid, dimethyl ester, polymer with 1,4-diisocyanatobenzene, 1,6-hexanediol and 1,5-pentanediol.
P-14-0860 | 6/9/2016 | 5/9/2016 | (G) Benzophenonetetracarboxylic dianhydride-methylenediphenylene isocyanate-toluene diisocyanate copolymer.
P-15-0121 | 6/7/2016 | 6/2/2016 | (S) Formaldehyde, polymer with 2-aminocyclopentanemethanamine, 1,4-butanediamine, 1,2-cyclohexanediamine, 1,6-hexanediamine, hexahydro-1h-azepine and 2-methyl-1,5,-pentanediamine.
P-15-0703 | 6/15/2016 | 5/28/2016 | (S) 2-propenoic acid, 2-methyl-, 2-(diethylamino)ethyl ester, polymer with butyl 2-propenoate and methyl 2-methyl-2-propenoate, compd. with methyl 4-methylbenzenesulfonate.
P-16-0022 | 6/3/2016 | 6/3/2016 | (S) C10-C20 neo fatty acids.
P-16-0101 | 6/9/2016 | 6/8/2016 | (G) Disubstituted benzene alkanal.
P-16-0159 | 6/9/2016 | 3/31/2016 | (G) Substituted polyaromatic sodium dicarboxylate.
P-16-0173 | 6/23/2016 | 6/6/2016 | (G) Aminoalkyl alaninate sodium salt (1:1), polymer with alkyldiol, dialkyl-alkanediol, alkyldioic acid, alkyldiol, polyol, cycloaliphatic diisocyanate, polyalkylene glycol mono-alkyl ether-blocked.
P-16-0200 | 6/14/2016 | 6/7/2016 | (S) 1-propanone, 1-[1,1′-biphenyl]-4-yl-2-methyl-2-(4-morpholinyl)-
P-16-0201 | 6/6/2016 | 5/22/2016 | (S) Oxirane, 2-methyl-, polymer with alpha-hydro-omega-hydroxy- poly[oxy(methyl-1,2-ethanediyl)], 5-isocyanato-1-(isocyanatomethyl)-1,3,3-trimethyl cyclohexane, oxirane and 2-[[3-(triethoxysilyl)propoxy]methyl]oxirane, poly ethylenepolypropylene glycol mono-bu ether monoether with propylene oxide-2-[[3-(tri ethoxysilyl)propoxy]methyl] oxirane polymer- and polypropylene glycol mono-bu ether-blocked.
P-16-0203 | 6/2/2016 | 5/22/2016 | (G) Pentanedioic acid, compd. with polyalkylpolyamine.
P-16-0208 | 6/6/2016 | 5/23/2016 | (S) Carbon, calcination products with sulfur.
P-16-0222 | 6/27/2016 | 6/26/2016 | (G) Alkanedioic acid, polymer with substituted heteromonocycle, â±-hydro-ã¿â-hydroxypoly(oxy-1,2-ethanediyl) ether with substituted alkanediol and substituted. bis[carbomonocycle], alkanoate.
P-16-0223 | 6/10/2016 | 6/2/2016 | (G) Wax.
P-16-0227 | 6/10/2016 | 6/8/2016 | (G) Cashew nutshell liquid, polymer with diisocyanatoalkane, substituted-polyoxyalkyldiol, hydroxy-terminated .polybutadiene and 4,4′-(1-methylethylidene)bis[2-(2-propen-1-yl)phenol].
P-16-0228 | 6/21/2016 | 6/6/2016 | (G) Derivative of a glycerol, alkanoic acid and mixed fatty acids polymer.
P-16-0235 | 6/6/2016 | 5/31/2016 | (G) Polymeric methylene diphenyldiisocyanate, polymer with oxyalkyl diol, methacrylate blocked.
P-16-0250 | 6/24/2016 | 6/24/2016 | (G) Substituted carbomonocycle, polymer with substituted alkanediol, alkanedioic acid, alkanediol, substituted alkanoic acid and substituted carbomonocycle, compd. with substituted alkane.
P-16-0267 | 6/22/2016 | 6/19/2016 | (G) Fatty acids, reaction products with alkylamine, polymers with substituted carbomonocycle, substituted alkylamines, heteromonocycle and substituted alkanoate, lactates (salts).

Authority: 15 U.S.C. 2601 et seq.

Dated: July 25, 2016.
Megan Carroll,
Acting Information Management Division, Office of Pollution Prevention and Toxics.

[FR Doc. 2016-18015 Filed 7-28-16; 8:45 am]

BILLING CODE 6560-50-P